DEPARTMENT OF JUSTICE

Notice of Lodging Proposed Consent Decree

In accordance with Departmental Policy, 28 CFR 50.7, notice is hereby given that a proposed Consent Decree in United States v. JLG Enterprises, et al., D. Minn., Civil No. 09-00708, was lodged with the United States District Court for the District of Minnesota on June 23, 2009.

This proposed Consent Decree concerns a complaint filed by the United States against Jeffrey Gilbert, individually and d/b/a/JLG Enterprises; Gary Gilbert, individually and d/b/a JLG Enterprises; JLG Enterprises, a Minnesota general partnership; and JLG Enterprises of Hermantown, LLP, a Minnesota limited liability partnership, pursuant to sections 301(a), 309 and 404 of the Clean Water Act, 33 U.S.C. 1311(a), 1319 and 1344, to obtain injunctive relief from and impose civil penalties against the Defendants for violating the Clean Water Act by discharging pollutants without a permit into waters of the United States. The proposed Consent Decree resolves these allegations by requiring the Defendants to restore the impacted areas and/or perform mitigation and to pay a civil penalty.

The Department of Justice will accept written comments relating to this proposed Consent Decree for thirty (30) days from the date of publication of this Notice. Please address comments to Joshua M. Levin, U.S. Department of Justice, Environment & Natural Resources Division, Environmental Defense Section, P.O. Box 23986, Washington, DC 20026-3986, and refer to United States v. JLG Enterprises, DJ # 90-5-1-1-18212.

The proposed Consent Decree may be examined at the Clerk's Office, United States District Court for the District of Minnesota, 300 South 4th Street, Suite 202, Minneapolis, MN 55415. In addition, the proposed Consent Decree may be viewed at http://www.usdoj.gov/enrd/Consent_Decrees.html.

Maureen M. Katz,
Assistant Section Chief, Environment & Natural Resources Division.

[FR Doc. E9-15389 Filed 6-29-09; 8:45 am]

BILLING CODE P